SMALL BUSINESS ADMINISTRATION

[Applicant No. 99000418]

Bluestem Capital Partners III, L.P.; Notice Seeking Exemption Under Section 312 of the Small Business Investment Act, Conflicts of Interest

Notice is hereby given that Bluestem Capital Partners III, L.P. (Bluestem III), 122 South Phillips Ave., Suite 300, Sioux Falls, South Dakota, 57104, an applicant for a Federal License under the Small Business Investment Act of 1958, as amended (“the Act”), in connection with the financing of a small concern, has sought an exemption under section 312 of the Act and section 107.730, Financings which Constitute Conflicts of Interest of the Small Business Administration (“SBA”) rules and regulations (13 CFR 107.730 (2000)). Bluestem III proposes to provide convertible debt security financing to Paragon Solutions, Inc., 3625 Brookside Parkway, Suite 300, Alpharetta, GA 30022. The financing is contemplated for the purpose of providing working capital to Paragon Solutions, Inc. to fund its current operations and the expansion of its sales force and management team within the U.S.

The financing is brought within the purview of Sec. 107.730(a)(1) of the Regulations because Bluestem Capital Partners II, L.P., an Associate of Bluestem III, currently owns greater than 10 percent of Paragon Solutions, Inc. and therefore Paragon Solutions, Inc. is considered an Associate of Bluestem III as defined in Sec. 107.50 of the SBA Regulations.

Notice is hereby given that any interested person may submit written comments on the transaction to the Associate Administrator for Investment, U.S. Small Business Administration, 409 Third Street, SW., Washington, DC 20416.

Dated: December 1, 2000.
Don A. Christensen,
Associate Administrator for Investment.

[FR Doc. 00-31786 Filed 12-13-00; 8:45 am]

BILLING CODE 8025-01-P